DEPARTMENT OF DEFENSE

Department of the Navy

32 CFR Part 718

[Docket ID: USN-2018-HQ-0020]

RIN 0703-AB07

Missing Persons Act

AGENCY: Department of the Navy, DoD.

ACTION: Final rule.

SUMMARY: This final rule removes the DoD regulation on the Missing Persons Act because its content is internal to DoD. The corresponding internal guidance document has been updated since this rule was last amended, and it is publicly available. The rule is outdated and unnecessary.

DATES: This rule is effective on March 26, 2019.

FOR FURTHER INFORMATION CONTACT: Lieutenant Colonel Theresa Strebel at 703-693-0696.

SUPPLEMENTARY INFORMATION: It has been determined that publication of this CFR part removal for public comment is impracticable, unnecessary, and contrary to public interest since it is removing outdated internal information. The rule provides guidance to Department of the Navy entities on implementation and compliance with the Missing Persons Act. It does not add requirements beyond those established in Title 37 U.S.C. Chapter 10, “Payments to Missing Persons” (sections 551-559). The corresponding internal implementation guidance is publicly available in DoD Issuance 2310.05, “Accounting for Missing Persons—Boards of Inquiry,” at https://www.esd.whs.mil/Portals/54/Documents/DD/issuances/dodi/231005p.pdf.

This rule is not significant under Executive Order (E.O.) 12866, “Regulatory Planning and Review,” therefore, the requirements of E.O. 13771, “Reducing Regulation and Controlling Regulatory Costs” do not apply.

List of Subjects in 32 CFR Part 718

Military personnel.

PART 718—[REMOVED]

Accordingly, by the authority of 5 U.S.C. 301, 32 CFR part 718 is removed.

Dated: March 19, 2019.
M.S. Werner,
Commander, Judge Advocate General's Corps, U.S. Navy, Federal Register Liaison Officer.

[FR Doc. 2019-05722 Filed 3-25-19; 8:45 am]

BILLING CODE 3810-FF-P